FEDERAL COMMUNICATIONS COMMISSION

47 CFR Part 73

[DA 03-190; MM Docket No. 01-295; RM-10305; RM-10381]

Radio Broadcasting Services; Jayton, TX

AGENCY: Federal Communications Commission.

ACTION: Final rule.

SUMMARY: This document denies a petition for rule making filed at the request of Linda Crawford, proposing the allotment of FM Channel 231A to Jayton, Texas (RM-10305). See 66 FR 53755, October 24, 2001. In response to a counterproposal filed by Robert Fabian (RM-10381), this document allots Channel 231C2 to Jayton, Texas, as that community's first local aural transmission service. Our determination was premised on Commission policy which is to allot the highest class channel requested to a community that complies with the technical requirements of the Rules. Coordinates used for Channel 231C2 at Jayton, Texas, are 33-15-35 NL and 100-40-08 WL. With this action, this docketed proceeding is terminated.

DATES: Effective March 24, 2003. A filing window for Channel 231C2 at Jayton, Texas, will not be opened at this time. Instead, the issue of opening this allotment for auction will be addressed by the Commission in a subsequent Order.

FOR FURTHER INFORMATION CONTACT: Nancy Joyner, Media Bureau, (202) 418-2180.

SUPPLEMENTARY INFORMATION: This is a synopsis of the Commission's Report and Order, MM Docket No. 01-295, adopted February 5, 2003, and released February 7, 2003. The full text of this Commission decision is available for inspection and copying during normal business hours in the FCC's Reference Information Center (Room CY-A257), 445 12th Street, SW., Washington, DC. The complete text of this decision may also be purchased from the Commission's copy contractor, Qualex International, Portals II, 445 12th Street, SW., Room CY-B402, Washington, DC 20554, telephone (202) 863-2893.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Texas, is amended by adding Jayton, Channel 231C2.

Federal Communications Commission.
John A. Karousos,
Assistant Chief, Audio Division, Media Bureau.

[FR Doc. 03-4366 Filed 2-24-03; 8:45 am]

BILLING CODE 6712-01-P